DEPARTMENT OF THE TREASURY

Bureau of Alcohol, Tobacco and Firearms

27 CFR Part 9

[Re: Notice No. 947]

RIN 1512-AC62

Establishment of the Oak Knoll District Viticultural Area (2002R-046P); Correction

AGENCY: Bureau of Alcohol, Tobacco and Firearms (ATF), Treasury.

ACTION: Notice of proposed rulemaking; correction.

SUMMARY: This document corrects the preamble to a proposed rule published in the Federal Register of July 9, 2002. In Notice No. 947, Establishment of the Oak Knoll District Viticultural Area, the address listed for submitting comments to the Bureau of Alcohol, Tobacco and Firearms by e-mail is incorrect. This notice contains the correct address for submitting comments by e-mail.

DATES: Comments on Notice No. 947 must be received by September 9, 2002.

FOR FURTHER INFORMATION CONTACT: Joanne Brady, Specialist, Regulations Division (Philadelphia, PA), Bureau of Alcohol, Tobacco and Firearms, The Curtis Center, Suite 875, Independence Square West, Philadelphia, PA 19106; telephone 215-597-5288 or e-mail JCBrady@phila.atf.treas.gov.

Correction

In proposed rule FR Doc. 02-16972, beginning on page 45437 in the issue of July 9, 2002, make the following correction. On page 45438, in the third column, under the Submitting Comments heading, correct the fourth paragraph to read as follows:

“By e-mail: Comments may be submitted by e-mail to nprm@atfhq.atf.treas.gov. E-mail comments must:

(1) Contain your name, mailing address, and e-mail address;

(2) Reference this notice number; and

(3) Be legible when printed.

We will not acknowledge the receipt of e-mail. We will treat comments submitted by e-mail as originals.”

Signed: July 12, 2002.
William H. Foster,
Deputy Chief, Regulations Division.

[FR Doc. 02-18321 Filed 7-18-02; 8:45 am]

BILLING CODE 4810-31-M